DEPARTMENT OF TRANSPORTATION

Federal Aviation Administration

Twenty Second Meeting: RTCA Special Committee 214/EUROCAE WG-78: Standards for Air Traffic Data Communication Services

AGENCY: Federal Aviation Administration (FAA), U.S. Department of Transportation (DOT).

ACTION: RTCA Special Committee 214 held jointly with EUROCAE WG-78: Standards for Air Traffic Data Communication Services meeting.

SUMMARY: The FAA is issuing this notice to advise the public of twenty second meeting of RTCA Special Committee 214 to be held jointly with EUROCAE WG-78: Standards for Air Traffic Data Communication Services.

DATES: The meeting will be held December 16th to 18th from 9:00 a.m. to 5:00 p.m. (Paris Time).

ADDRESSES: The meeting will be held at Thales Avionics 105 Avenue du General Eisenhower 31100 Toulouse, France.

FOR FURTHER INFORMATION CONTACT: Sophie Bousquet, 202-330-0663, sbousquet@rtca.org or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 214/EUROCAE WG-78: Standards for Air Traffic Data Communication Services. The agenda will include the following:

December 16th

• Welcome/Introduction/Administrative Remarks

• Approval of the Agenda and the Minutes of Plenary 21

• Coordination Activities with ICAO, OPDLWG and DCIWG

• Revision to Baseline 2 Initial Release, Dyn RNP, A-IM and ATC Winds

• Working Group/Special committee organization for future work

December 17th

• Dynamic-RNP service ConOps familiarization, review of Tiger Team results, initiation of B2 proposed amendments

• Revision to Baseline 2 Initial Release, Dynamic-RNP service ConOps familiarization, review of Tiger Team results, initiation of B2 proposed amendments

• Proposed resolutions for comments received on Initial Release

December 18th

• Wrap-up and consolidate high-level roadmap for revision to Baseline 2 Initial Release

• Review need for upcoming meetings and approve dates and locations of Plenary and SG Meetings

• Any Other Business

• Adjourn

Please confirm your attendance to cedric.d-silva@fr.thalesgroup.com, copying marie-france.helbert@fr.thalesgroup.com with subject “WG78 THALES Dec2014” no later than December 1st 2014 with the following security information:

• Surname, First Name

• Nationality

• Place of birth, Date of birth

• Passport Number, Authority or Place of delivery, Date of delivery

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 6th, 2014.
Mohannad Dawoud,
Management Analyst, Business Operations Group, ANG-A12, Federal Aviation Administration.

[FR Doc. 2014-24262 Filed 10-9-14; 8:45 am]

BILLING CODE 4910-13-P